ENVIRONMENTAL PROTECTION AGENCY

[ER-FRL-9020-2]

Environmental Impact Statements; Notice of Availability

AGENCY: Office of Federal Activities, General Information (202) 564-7146 or http://www.epa.gov/compliance/nepa/.

Weekly receipt of Environmental Impact Statements.

Filed 03/16/2015 Through 03/20/2015.

Pursuant to 40 CFR 1506.9.

Notice

Section 309(a) of the Clean Air Act requires that EPA make public its comments on EISs issued by other Federal agencies. EPA's comment letters on EISs are available at: http://www.epa.gov/compliance/nepa/eisdata.html.

EIS No. 20150075, Draft Supplement, FHWA, AK, Sterling Highway MP 45—60 Project, Comment Period Ends: 05/26/2015, Contact: John Lohrey 907-586-7418

EIS No. 20150076, Final EIS, BLM, ID, Thompson Creek Mine Expansion and Public Land Disposal Proposed Resource Management Plan Amendment, Review Period Ends: 04/27/2015, Contact: Ken Gardner 208-879-6210

EIS No. 20150077, Final EIS, USFS, CO, Eldora Mountain Resort Ski Area Projects, Review Period Ends: 05/04/2015, Contact: K. Reid Armstrong 303-541-2532

EIS No. 20150078, Draft EIS, NRC, IL, Generic—License Renewal of Nuclear Plants, Supplement 55 Regarding Braidwood Station Units 1 and 2, Comment Period Ends: 05/12/2015, Contact: Tam Tran 301-415-3617

EIS No. 20150079, Final EIS, NRC, TN, Generic- License Renewal of Nuclear Plants, Supplement 53 Regarding Sequoyah Nuclear Station Units 1 and 2, Review Period Ends: 04/27/2015, Contact: David Drucker 301-415-6223

EIS No. 20150080, Final EIS, BLM, CO, Proposed Resource Management Plan Amendment for Oil and Gas Development in the White River Field Office, Review Period Ends: 04/27/2015, Contact: Heather Sauls 970-878-3855

EIS No. 20150081, Second Final EIS, BLM, USFS, ID, Smoky Canyon Mine Panels F and G Lease and Mine Plan Modification Project, Review Period Ends: 04/27/2015, Contact: Diane Wheeler 208-557-5839

The U.S. Department of the Interior's Bureau of Land Management and The U.S. Department of Agriculture's Forest Service are joint lead agencies for the above project.

EIS No. 20150082, Final EIS, BR, CA, Long-term Water Transfers, Review Period Ends: 04/27/2015, Contact: Brad Hubbard 916-978-5204

Dated: March 25, 2015.
Cliff Rader,
Director, NEPA Compliance Division, Office of Federal Activities.

[FR Doc. 2015-07137 Filed 3-26-15; 8:45 am]

BILLING CODE 6560-50-P